SMALL BUSINESS ADMINISTRATION

[Declaration of Disaster #3483]

State of West Virginia

As a result of the President's major disaster declaration on March 14, 2003, I find that Cabell, Jackson, Kanawha, Lincoln, Mingo, Roane and Wayne Counties in the State of West Virginia constitute a disaster area due to damages caused by a severe winter storm, record snow, heavy rains, flooding and landslides occurring on February 16, 2003, and continuing. Applications for loans for physical damage as a result of this disaster may be filed until the close of business on May 13, 2003, and for economic injury until the close of business on December 15, 2003, at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Boone, Calhoun, Clay, Fayette, Logan, Mason, McDowell, Nicholas, Putnam, Raleigh, Wirt, Wood and Wyoming in the State of West Virginia; Gallia, Lawrence and Meigs counties in the State of Ohio; Boyd, Lawrence, Martin and Pike counties in the State of Kentucky; and Buchanan county in the Commonwealth of Virginia.

The interest rates are:

For Physical Damage

Homeowners with credit available elsewhere: 5.875%

Homeowners without credit available elsewhere: 2.937%

Businesses with credit available elsewhere: 6.378%

Businesses and non-profit organizations without credit available elsewhere: 3.189%

Others (including non-profit organizations) with credit available elsewhere: 5.500%

For Economic Injury

Businesses and small agricultural cooperatives without credit available elsewhere: 3.189%

The number assigned to this disaster for physical damage is 348311. For economic injury the number is 9U5200 for West Virginia; 9U5300 for Ohio; 9U5400 for Kentucky; and 9U5500 for Virginia.

(Catalog of Federal Domestic Assistance Program Nos. 59002 and 59008)
Dated: March 17, 2003.
Herbert L. Mitchell,
Associate Administrator for Disaster Assistance.

[FR Doc. 03-6767 Filed 3-20-03; 8:45 am]

BILLING CODE 8025-01-P